ENVIRONMENTAL PROTECTION AGENCY

40 CFR Part 300

[FRL-7964-2]

National Oil and Hazardous Substances Pollution Contingency Plan; National Priorities List

AGENCY: Environmental Protection Agency.

ACTION: Withdrawal of direct final deletion of the Jones Sanitation Superfund Site from the National Priorities List.

SUMMARY: On July 7, 2005, the Environmental Protection Agency (EPA), Region 2, published a direct final deletion (70 FR 129) to delete the Jones Sanitation Superfund Site (Site), located in Hyde Park, New York, from the National Priorities List (NPL). The EPA is withdrawing this final action due to adverse comments received during the public comment period. After consideration of the comments received, if appropriate, EPA will publish a notice of deletion in the Federal Register based on the parallel notice of proposed deletion (70 FR 129) dated July 7, 2005 and place a copy of the final deletion package, including a Responsiveness Summary in the Site repositories.

DATES: The direct final action published on July 7, 2005, at 70 FR 129, is withdrawn as of September 1, 2005.

ADDRESSES: Comprehensive information on the Site, as well as the comments that were received during the comment period are available through the public docket contained at: U.S. Environmental Protection Agency, Region 2, Superfund Records Center, 290 Broadway, 20th Floor, New York, New York 10007-1866, (212) 637-4308. Hours: 9 a.m. to 5 p.m., Monday through Friday.

FOR FURTHER INFORMATION CONTACT: Ms. Isabel Rodrigues, Remedial Project Manager, U.S. EPA Region 2, 290 Broadway, 20th Floor, New York, New York 10007-1866, (212) 637-4248; Fax Number (212) 637-4284; E-mail address: Rodrigues.Isabel@EPA.GOV.

SUPPLEMENTARY INFORMATION: Comprehensive information about the Site is available for viewing and copying at the Site information repositories located at:

U.S. Environmental Protection Agency, Region 2, Superfund Records Center, 290 Broadway, Room 1828, New York, New York 10007-1866, (212) 637-4308. Hours: 9 a.m. to 5 p.m., Monday through Friday; by appointment

and,

Hyde Park Free Public Library, 2 Main Street, Hyde Park, NY 12538. Hours: 9 a.m. to 8 p.m., Monday and Tuesday; 12 to 8 p.m., Wednesday and Thursday; 9 a.m. to 2 p.m., Saturday.

List of Subjects in 40 CFR Part 300

Environmental protection, Air pollution control, Chemicals, Hazardous waste, Hazardous substances, Intergovernmental relations, Penalties, Reporting and recordkeeping requirements, Superfund, Water pollution control, Water supply.

Dated: August 19, 2005.
Dore Laposta,
Acting Regional Administrator, Region II.

[FR Doc. 05-17435 Filed 8-31-05; 8:45 am]

BILLING CODE 6560-50-P